NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 4, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Permit Application No. 2011-019

Applicant: Robert W. Sanders, Department of Biology, 1900 N. 12th Street, Temple University, Philadelphia, PA 19122.

Activity for Which Permit is Requested

Take, Export from USA, Introduce non-indigenous species into Antarctica, and Import into USA. The applicant plans to collect water samples containing marine microbes (algae and protozoa) for use in experiments, for preservation for future examination, and for extraction of nucleic acids for diversity and abundance analyses back at the home institution. Live cultures of marine bacteria, previously collected from Antarctic waters, will be used in shipboard experiments to study feeding rates and transfer of nutrients in Antarctic protistan grazers. All remaining live cultures will be autoclaved before disposal.

Location

Ross Sea region, Antarctica.

Dates

January 1, 2011 to April 1, 2011.

Nadene G. Kennedy,
Permit Officer, Office of Polar Programs.

[FR Doc. 2010-24865 Filed 10-4-10; 8:45 am]

BILLING CODE 7555-01-P